DEPARTMENT OF VETERANS AFFAIRS

Genomic Medicine Program Advisory Committee, Notice of Meeting

The Department of Veterans Affairs (VA) gives notice under Public Law 92-463 (Federal Advisory Committee Act) that the Genomic Medicine Program Advisory Committee will meet on April 17, 2012, at the Sheraton Crystal City, 1800 Jefferson Davis Highway, Arlington, Virginia, from 9 a.m. to 5 p.m. The meeting is open to the public.

The purpose of the Committee is to provide advice and make recommendations to the Secretary of Veterans Affairs on using genetic information to optimize medical care of Veterans, and to enhance development of tests and treatments for diseases particularly relevant to Veterans.

The Committee will receive program updates, and will continue to provide insight into optimal ways for VA to incorporate genomic information into its health care program while applying appropriate ethical oversight and protecting the privacy of Veterans. The meeting focus will be on policies, regulations, and implications for the incorporation of genomic data, particularly whole genome data, into health care and clinical decision-making. The meeting will also receive an update on the status of the ongoing Million Veteran Program.

The Committee will receive public comments at 3 p.m. Comments are limited to 5 minutes each. Individuals who speak are invited to submit a 1-2 page summary of their comments for inclusion in the official meeting record. Members of the public may also submit written statements for the Committee's review to Dr. Sumitra Muralidhar, Designed Federal Officer, Office of Research and Development (10P9B), Department of Veterans Affairs, 810 Vermont Avenue NW., Washington, DC 20420, or by email at Sumitra.muralidhar@va.gov. Any member of the public wishing to attend or seeking additional information should contact Dr. Muralidhar at (202) 443-5679.

By direction of the Secretary.
Dated: March 16, 2012.
Vivian Drake,
Committee Management Officer.

[FR Doc. 2012-6845 Filed 3-21-12; 8:45 am]

BILLING CODE P